DEPARTMENT OF VETERANS AFFAIRS

[OMB Control No. 2900-New]

Agency Information Collection Activity: Service Level Measurement—VHA Telehealth Survey

AGENCY: Veterans Experience Office, Department of Veterans Affairs.

ACTION: Notice.

SUMMARY: The Veterans Experience Office (VEO), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before July 22, 2019.

ADDRESSES: Submit written comments on the collection of information through Federal Docket Management System (FDMS) at www.Regulations.gov or to Michael Jacobsen, Veterans Experience Office, Department of Veterans Affairs, 810 Vermont Avenue NW, Washington, DC 20420 or email to michael.jacobsen2@va.gov. Please refer to “Service Level Measurement—Telehealth” in any correspondence. During the comment period, comments may be viewed online through FDMS.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VEO invites comments on: (1) Whether the proposed collection of information is necessary for the proper performance of VEO's functions, including whether the information will have practical utility; (2) the accuracy of VEO's estimate of the burden of the proposed collection of information; (3) ways to enhance the quality, utility, and clarity of the information to be collected; and (4) ways to minimize the burden of the collection of information on respondents, including through the use of automated collection techniques or the use of other forms of information technology.

Authority: OMB Circular A-11 (2018), Section 280.

Title: Service Level Measurement—VHA Telehealth Survey.

OMB Control Number: 2900-New.

Type of Review: New collection.

Abstract: The Enterprise Measurement and Design team (EMD) team is tasked with conducting transactional surveys of the Veteran population to measure their satisfaction with the Department of Veterans Affairs (VA) numerous services. Thus, their mission is to empower Veterans by rapidly collecting feedback on their interactions with such VA entities as NCA, VHA, and VBA.

The Veteran Health Administration (VHA) oversees the largest health care system in the country and, to assure access to high quality health care services to all veterans, has been a leader in the adoption of telecommunications technologies that allow for convenient, accessible, and patient-centered care when patient and practitioners are separated by geographical distance. The Veterans Experience Office (VEO) was procured by VHA to measure the customer satisfaction of veterans receiving telehealth. The Telehealth Survey measures customer satisfaction at multiple levels from VHA-wide, to services type, to point of service. This measurement is intended to bring insights and value to wide variety of stakeholders at VA. Front-line VA leaders can resolve individual feedback from Veterans and take steps to improve the patient experience; meanwhile VA executives can receive real-time updates on systematic trends allowing them to monitor veteran experience with telehealth during this key transformational period of telehealth expansion and beyond. The goals are to:

(1) To collect continuous patient experience data.

(2) To help field staff and the national office identify areas of improvement.

(3) To understand emerging drivers and detractors of patient experience.

To accomplish this task, the VEO will invite, via email, a random sample of veterans that recently received telehealth services to complete a brief transactional online survey. Samples will be drawn two times a week to ensure that veterans can accurately recall their most recent telehealth encounter. The selected veterans are given two weeks to respond to the survey, receiving an email reminding them about the survey invitation if they did not respond one week after the initial email. Sampled veterans will report their experiences through Likert-scale questions designed to measure the customer experience driver metrics published by OMB in the A-11 Budget Directive. Sampled veterans will also be asked to respond to an open-ended question about their experience with the telehealth encounter that will allow them to provide any further information about their experience that was not captured in the previous questions. Once data collection is completed, the participant responses in the online survey will be weighted so that the samples more closely represent the overall population. Weighting models will rely on the following: Telehealth modality, patient touchpoint, district, age, and gender. Weighted estimates will be published through dashboards on the Veteran Signals (VSignals) system for interactive reporting and data visualization.

This data collection was previously approved and conducted under the VA Generic Clearance Number 2900-0770: Generic Clearance for the Collection of Qualitative Feedback on Agency Service Delivery. Under this clearance, the VEO could collect and report this data to stakeholders internal to VA for program and procedure improvement. However, OMB Circular A-11 (2018), Section 280, directs VEO to present the standardized customer experience driver metrics from this survey to the public through Performance.gov, which was not allowed under Generic Clearance Number 2900-0770. Therefore, the VEO is creating a new information collection request to be able to present the VHA Telehealth estimates to meet this directive.

Affected Public: Individuals.

Estimated Annual Burden: 2,000 hours.

Estimated Average Burden per Respondent: 2 minutes.

Frequency of Response: Once.

Estimated Number of Respondents: 60,000.

By direction of the Secretary.
Danny S. Green,
Interim VA Clearance Officer, Office of Quality, Performance and Risk, Department of Veterans Affairs.

[FR Doc. 2019-10728 Filed 5-21-19; 8:45 am]

BILLING CODE 8320-01-P